DEPARTMENT OF TRANSPORTATION

Federal Aviation Administration

14 CFR Part 71

[Docket No. FAA-2005-20450; Airspace Docket No. 05-AAL-07]

Establishment of Class E Airspace; Chalkyitsik, AK

AGENCY: Federal Aviation Administration (FAA), DOT.

ACTION: Final rule; correction.

SUMMARY: This action corrects an error in the airport coordinates contained in a Final Rule that was published in the Federal Register on Friday, June 24, 2005 (70 FR 36492). Airspace Docket No. 05-AAL-07.

EFFECTIVE DATE: July 20, 2005.

FOR FURTHER INFORMATION CONTACT: Jesse Patterson, AAL-538G, Federal Aviation Administration, 222 West 7th Avenue, Box 14, Anchorage, AK 99513-7587; telephone number (907) 271-5898; fax: (907) 271-2850; e-mail: Jesse.CTR.Patterson@faa.gov. Internet address: http://www.alaska.faa.gov/at.

SUPPLEMENTARY INFORMATION:

History

Federal Register Document 05-12564, Airspace Docket No. 05-AAL-07, published on Friday, June 24, 2005 (70 FR 36492), established the Class E airspace at Chalkyitsik, AK. The longitude used for the airport coordinates in the airspace description in the Final Rule was incorrect. This action corrects that error.

Correction to Final Rule

Accordingly, pursuant to the authority delegated to me, the airspace description of the Class E airspace extending upward from 700 feet or more above the surface of the earth published in the Federal Register, Friday, June 24, 2005 (70 FR 36493), (FR Doc 05-15264; page 36493, column 2) is corrected as follows:

§ 71.1 [Corrected]

* * * * *

AAL AK E5 Chalkyitsik, AK [Corrected]

By changing the airport coordinates (Lat. 66°38′42″ N., Long. 143°44′20″ W.) to read (Lat. 66°38′42″ N., Long. 143°44′24″ W.)

Issued in Anchorage, AK, on July 12, 2005.
Anthony M. Wylie,
Acting Area Director, Alaska Flight Services Area Office.

[FR Doc. 05-14251 Filed 7-19-05; 8:45 am]

BILLING CODE 4910-13-P